ENVIRONMENTAL PROTECTION AGENCY

[OPP-00439A; FRL-6498-9]

Pesticide Program Dialogue Committee (PPDC); Inert Disclosure Stakeholder Workgroup; Notice of Public Meeting

AGENCY: Environmental Protection Agency (EPA).

ACTION: Notice of public meeting.

SUMMARY: This notice announces a public meeting of the Inert Disclosure Stakeholder Workgroup. The workgroup was established to advise the Pesticide Program Dialogue Committee (PPDC) on ways of making information on inert ingredients more available to the public while working within the mandates of the Federal Insecticide, Fungicide, and Rodenticide Act (FIFRA) and related Confidential Business Information (CBI) concerns.

DATES: The meeting will be held on Monday, March 20, 2000, from 10 a.m. to 5:30 p.m. and Tuesday March 21, 2000, from 9 a.m. to 1 p.m.

ADDRESSES: The meeting will be held at the Holiday Inn Hotel, 625 First St., Alexandria, VA 22314; Telephone number (703) 548-6300.

FOR FURTHER INFORMATION CONTACT: Cameo Smoot, Field and External Affairs Division, Office of Pesticide Programs (7506C), U.S. Environmental Protection Agency, Ariel Rios Building, 1200 Pennsylvania Avenue, NW., Washington, DC 20460, telephone: (703) 305-5454; e-mail address: smoot.cameo@epa.gov.

SUPPLEMENTARY INFORMATION:

I. Does this Action Apply to Me?

The Inert Disclosure Stakeholder Workgroup is composed of participants from the following sectors: environmental/public interest and consumer groups; industry and trade associations; pesticide users; Federal, State and local governments; the general public; academia and public health organizations.

The Inert Disclosure Stakeholder Workgroup will advise the United States Environmental Protection Agency, through the Pesticide Program Dialogue Committee (PPDC), on potential measures to increase the availability to the public of information about inert ingredients (also called “other ingredients”) under the Federal Insecticide, Fungicide, and Rodenticide Act (FIFRA). Among the factors the workgroup will be asked to consider in preparing its recommendations are: existing law regarding inert ingredients and Confidential Business Information (CBI); current Agency processes and policies for disseminating inert ingredient information to the public, including procedures for the protection of CBI; the informational needs for a variety of stakeholders; and business reasons for limiting the disclosure of inert ingredient information.

II. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/. Additional information about the activities of the Pesticide Program Dialogue Committee can be found at http://www.epa.gov/pesticides/ppdc/.

2. In person. The Agency has established an administrative record for this meeting under docket control number OPP-00439A. The administrative record consists of the documents specifically referenced in this notice, any public comments received and other information related to the Inert Disclosure Stakeholder Workgroup Meeting, including any information claimed as CBI. This administrative record includes the documents that are physically located in the docket, as well as the documents that are referenced in those documents. The public version of the administrative record, which includes printed, paper versions of any electronic comments that may be submitted during an applicable comment period, is available for inspection in the Public Information and Records Integrity Branch (PIRIB), Rm. 119, Crystal Mall #2 (CM #2), 1921 Jefferson Davis Hwy., Arlington, VA, from 8:30 a.m. to 4 p.m., Monday through Friday, excluding legal holidays. The PIRIB telephone number is (703) 305-5805.

III. How Can I Participate in this Meeting?

The Inert Disclosure Stakeholder Workgroup meeting is open to the public. Outside statements are welcome. Oral statements will be limited to 5 minutes per individual or group. Oral statements will be accepted in the afternoon of Monday, March 20th only. Any person who wishes to file a written statement can do so before or after the Workgroup meeting. These statements will become part of the permanent file in the administrative record referenced above in Section II (2) and will be provided to the Workgroup members for their information. The Agency requests that participants limit their use of fragranced products on behalf of persons attending who have expressed a concern about chemical sensitivity.

1. By mail. You may submit your comments to: Public Information and Records Integrity Branch (PIRIB), Information Resources and Services Division (7502C), Office of Pesticide Programs (OPP), Environmental Protection Agency, Ariel Rios Bldg., 1200 Pennsylvania Ave., NW., Washington, DC 20460. Please reference docket control number OPP-00439A on all comments submitted.

2. In person or by courier. PIRIB, Information Resources and Services Division (7502C), Office of Pesticide Programs (OPP), Environmental Protection Agency, Rm. 119, CM #2, 1921 Jefferson Davis Hwy., Arlington, VA. The PIRIB is open from 8:30 a.m. to 4 p.m., Monday through Friday, excluding legal holidays. The PIRIB telephone number is (703) 305-5805.

3. Electronically. You may submit your request electronically by e-mail to: “opp-docket@epa.gov.” Do not submit any information electronically that you consider to be Confidential Business Information (CBI). Use WordPerfect 6.1/8.0 or ASCII file format and avoid the use of special characters and any form of encryption. Be sure to identify your comments by docket control number OPP-00439A. You may also file a request online at many Federal Depository Libraries.

List of Subjects

Environmental protection, Pesticides, Inerts, PPDC.

Dated: March 10, 2000.
Marcia E. Mulkey,
Director, Office of Pesticide Programs.

[FR Doc. 00-6512 Filed 3-13-00; 2:22 pm]

BILLING CODE 6560-50-F